DEPARTMENT OF COMMERCE

Foreign-Trade Zones Board

[Docket 45-2001]

Foreign-Trade Zone 42—Orlando, FL; Application for Subzone Status, Mitsubishi Power Systems, Inc., Plant, (Power Generation Turbine Components) Orlando, FL

An application has been submitted to the Foreign-Trade Zones Board (the Board) by the Greater Orlando Aviation Authority, grantee of FTZ 42, requesting special-purpose subzone status for the power generation turbine components manufacturing plant of Mitsubishi Power Systems, Inc. (MPS) (a subsidiary of Mitsubishi Heavy Industries, Ltd., of Japan), located in Orlando, Florida. The application was submitted pursuant to the provisions of the Foreign-Trade Zones Act, as amended (19 U.S.C. 81a-81u), and the regulations of the Board (15 CFR part 400). It was formally filed on November 6, 2001.

The MPS plant (15 acres/109,000 sq.ft.) is located within the Orlando Central Park at 2287 Premier Row, Orlando (Orange County), Florida. The facility (350 employees) is used to contract repair and manufacture combustion baskets, transition pieces, turbine blades and turbine vanes used a components for simple-cycle and advanced combined-cycle large power generation turbines (HTSUS# 8411.99), and to distribute similar imported components for export and the U.S. market. The production process involves inspection, welding, ceramic coating and repair. In addition to the component production, the application indicates that complete rotor assemblies would be repaired and/or manufactured at the facility in the future. The components are manufactured from cold-formed nickel alloy plate (HTSUS 7506.20; duty rate—3.0%) and cobalt alloy (8105.90; 3.7%) sourced from abroad. Domestic purchases of these alloys are planned.

FTZ procedures would exempt MPS from Customs duty payments on the foreign materials used in export production. On its domestic sales and exports to NAFTA markets, the company would be able to choose the duty rate that applies to finished combustion baskets, transition pieces, turbine blades, turbine vanes and rotor assemblies (2.4%) for the foreign-sourced nickel and cobalt alloys noted above. MPS would be able to defer Customs duty payments on the foreign-origin finished power generation turbine components that would be admitted to the proposed subzone for U.S. distribution. Duties would be deferred or reduced on foreign production equipment admitted to the proposed subzone until which time it becomes operational. The application indicates that subzone status would help improve the plant's international competitiveness.

In accordance with the Board's regulations, a member of the FTZ Staff has been designated examiner to investigate the application and report to the Board.

Public comment on the application is invited from interested parties. Submissions (original and three copies) shall be addressed to the Board's Executive Secretary at the following addresses:

1. Submissions via Express/Package Delivery Services: Foreign-Trade Zones Board, U.S. Department of Commerce, Franklin Court Building—Suite 4100W, 1099 14th Street, NW, Washington, DC 20005; or,

2. Submissions via the U.S. Postal Service: Foreign-Trade Zones Board, U.S. Department of Commerce, FCB-4100W, 1401 Constitution Ave., NW, Washington, DC 20230.

The closing period for their receipt is January 14, 2002. Rebuttal comments in response to material submitted during the foregoing period may be submitted during the subsequent 15-day period (to January 29, 2002).

A copy of the application will be available for public inspection at the Office of the Foreign-Trade Zones Board's Executive Secretary at address No.1 listed above and at the U.S. Department of Commerce Export Assistance Center, Suite 1270, 200 E. Robinson Street, Orlando, FL 32801.

Dated: November 6, 2001.
Dennis Puccinelli,
Executive Secretary.

[FR Doc. 01-28534 Filed 11-13-01; 8:45 am]

BILLING CODE 3510-DS-P